DEPARTMENT OF AGRICULTURE

Submission for OMB Review; Comment Request

January 24, 2022.

The Department of Agriculture has submitted the following information collection requirement(s) to OMB for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 4, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Housing Service

Title: American Rescue Plan Act, 2021 Emergency Rural Health Care Grant Program.

OMB Control Number: 0575-0200.

Summary of Collection: On March 11, 2021, the President signed the American Rescue Plan Act that appropriated $500 million in grant funding for the establishment of an Emergency Pilot Program for eligible Community Facilities (CF) applicants and eligible CF facilities to assist rural hospitals and local communities broaden access to COVID-19 vaccines, health care services, and food assistance through food banks and food distribution facilities, and projects supporting the long-term sustainability of rural health care. Making these funds available through the issuance of this NOFA, as authorized in Section 1002 of the American Rescue Plan Act, will provide funding to eligible applicants to offer support for rural health care services in the form of immediate relief, and longer-term funding to advance ideas and solutions to support the long-term sustainability of rural health and provide expeditious relief to address the current economic conditions arising from the COVID-19 emergency.

Community Facilities Programs, a division of the Rural Housing Service (RHS), hereinafter referred to as Agency, is part of the United States Department of Agriculture's Rural Development mission area. The Agency is authorized by Section 306(a) of the Consolidated Farm and Rural Development Act (7 U.S.C. 1926), as amended, to make grants to public agencies, nonprofit corporations, and Indian tribes to develop essential community facilities and services for public use in rural areas. The Emergency Rural Health Care Grant NOFA outlines the policies and responsibilities, including the collection and use of information necessary to effectively implement this program.

Need and Use of the Information: This information is used to determine whether applicants meet the eligibility requirements to be a recipient of grant funds, determine project eligibility, conduct technical evaluation, calculate a priority score, and rank and compete the application, as applicable, in order to be considered. Lack of adequate information to make the determination could result in the improper administration and appropriation of the Federal grant funds.

Applications are submitted through the applicable USDA Rural Development State Office.

Description of Respondents: State, Local, or Tribal Government.

Number of Respondents: 1,092.

Frequency of Responses: Annually.

Total Burden Hours: 71,681.

Levi S. Harrell,
Departmental Information Collection Clearance Officer.

[FR Doc. 2022-01601 Filed 2-1-22; 8:45 am]

BILLING CODE 3410-XV-P